ENVIRONMENTAL PROTECTION AGENCY

[FRL-7620-4]

Comprehensive Environmental Response, Compensation and Liability Act (CERCLA), Section 104(k); “Announcement of Proposal Deadline for a Reopening of the Competition for the 2004 National Brownfields Assessment, Revolving Loan Fund, and Cleanup Grants”

AGENCY: Environmental Protection Agency.

ACTION: Notice reopening of Fiscal Year 2004 Brownfields grant competition, of the availability of amended Brownfields grant application guidelines and deadline for submissions of proposals.

SUMMARY: The Environmental Protection Agency (EPA) is reopening the competition for Fiscal Year 2004 brownfields grants to accept applications for funding for certain brownfield sites that were not eligible under the Proposal Guidelines for Brownfields Assessment, Revolving Loan Fund, and Cleanup Grants (“The October 2003 Proposal Guidelines”), published in the Federal Register at 68 FR 59611, on October 16, 2003, and subsequent corrections published in the Federal Register at 68 FR 64623, on November 14, 2003. The Consolidated Appropriations Act, 2004, Public Law 108-199, which President Bush signed into law on January 23, 2004, temporarily expands the number of brownfields sites that are eligible for funding under EPA's brownfields assessment, revolving loan fund, and cleanup grants awarded under section 104(k) of the Comprehensive Environmental Response, Compensation, and Liability Act of 1980 (CERCLA), as amended. EPA's Fiscal Year 2004 appropriations may be used by recipients of brownfields grants and loans for eligible and allowable costs at brownfields sites as long as the recipient of a brownfield grant or loan satisfies all of the elements required to qualify as a bona fide prospective purchaser under CERCLA section 101(40) notwithstanding the fact that the property was acquired prior to the enactment of the Small Business Liability Relief and Brownfields Revitalization Act of 2001, Pub. L. 107-118, on January 11, 2002. EPA is reopening the Fiscal Year 2004 brownfields grant competition to allow entities who are affected by the above-referenced change to submit (or resubmit) proposals for brownfields funding.

To qualify for participation in the reopened competition, applicants must have specific brownfields sites identified, and these sites must now be eligible for EPA funding in Fiscal Year 2004 due to the above-referenced provision of the Consolidated Appropriations Act, 2004. There is an additional change to the guidelines that is posted at www.epa.gov/brownfields. The change is summarized below. The deadline for proposals to be received by EPA's contractor is 6 p.m. EST on March 9, 2004.

FOR FURTHER INFORMATION CONTACT: The U.S. EPA's Office of Solid Waste and Emergency Response, Office of Brownfields Cleanup and Redevelopment, (202) 566-2777.

SUPPLEMENTARY INFORMATION: The following correction has been made to the guidelines that are posted at www.epa.gov/brownfields:

On page 5 of the Proposal Guidelines for Brownfields Assessment, Revolving Loan Fund, and Cleanup Grants, the first bullet under Additional Uses/Restrictions of Grant Funds is revised to implement the language in the Consolidated Appropriation Act, 2004. This language now reads:

“Funds appropriated to EPA under the Consolidated Appropriation Act, 2004, to carry out CERCLA 104(k) may be used by recipients of brownfields grants and loans for eligible and allowable costs when a recipient satisfies all of the elements required to qualify as a bona fide prospective purchaser under CERCLA section 101(40) notwithstanding the fact that the property was acquired prior to the enactment of the Small Business Liability Relief and Brownfields Revitalization Act of 2001, Public Law 107-118, on January 11, 2002.”

The entities that otherwise meet all of the requirements to be eligible for brownfield funding and that are affected by this provision may apply for grants (including Revolving Loan Fund capitalization grants) to address hazardous waste contamination at eligible brownfield sites. However, applicants who submitted proposals by the December 4, 2003, deadline for brownfields assessment, revolving loan fund, and cleanup grants and who otherwise satisfied all of the requirements to be eligible to receive brownfields funding, as well as satisfied all of the elements required to qualify as a bona fide prospective purchaser, and were determined by EPA to be prohibited from using brownfield funds at the proposed site(s) because the applicant acquired the brownfield site prior to the January 11, 2002, enactment date, may choose to resubmit their proposal(s) to EPA for consideration. This change only has the affect of allowing EPA to award Brownfield grants to certain applicants that were previously prohibited from receiving grants under section 104(k)(4)(B)(i)(IV) and does not result in a change to the CERCLA definition of bona fide prospective purchaser or to any EPA enforcement authorities or policy. Please note that applicants with sites contaminated solely by petroleum are not eligible to participate in the reopened competition.

To be considered in this competition, every proposal must identify specific brownfield sites, meet the threshold requirements described in the Proposal Guidelines for Brownfields Assessment, Revolving Loan Fund, and Cleanup Grants (including the requirements for community notification and a letter from state or tribal environmental officials) and address the ranking factors in the Proposal Guidelines for Brownfields Assessment, Revolving Loan Fund, and Cleanup Grants. An original proposal and/or a request for reconsideration of a proposal that was submitted by the December 4, 2003, deadline must be received by 6 p.m. EST on or before March 9, 2004, by Environmental Management Support, Inc. (EMS), Attention: Don West, 8601 Georgia Avenue, Suite 500, Silver Spring, MD 20910, phone 301-589-5318. Applicants must also send a copy to the EPA Regional Brownfields Coordinator at the addresses shown in Appendix 1 of the October 2003 Proposal Guidelines. EPA strongly encourages applicants to send their proposals by express courier or hand delivery to the address above to avoid potential delays in regular U.S. Postal Service mail delivery. Proposals received by EMS at the address above after 6 p.m. EST March 9, 2004, will not be considered.

Dated: February 4, 2004.
Linda Garczynski,
Director, Office of Brownfields Cleanup and Redevelopment, Office of Solid Waste and Emergency Response.

[FR Doc. 04-2819 Filed 2-9-04; 8:45 am]

BILLING CODE 6560-50-P